DEPARTMENT OF TRANSPORTATION

Federal Aviation Administration

Eighty-Second Meeting: RTCA Special Committee 159: Global Positioning System (GPS)

AGENCY: Federal Aviation Administration (FAA), DOT.

ACTION: Notice of RTCA Special Committee 159 meeting: Global Positioning System (GPS).

SUMMARY: The FAA is issuing this notice to advise the public of a meeting of RTCA Special Committee 159: Global Positioning System (GPS).

DATES: The meeting will be held June 8-11, 2010, from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159: Global Positioning System (GPS) meeting. The agenda will include:

Specific Working Group Sessions

Tuesday, June 8th

• All Day, Working Group 2C, GPS/Inertial, Colson Board Room.

Wednesday, June 9th

• All Day, Working Group 2, GPS/WAAS, Hilton-ATA Room.

• All Day, Working Group 4, Precision Landing Guidance (GPS/LAAS), MacIntosh-NBAA Room.

Thursday, June 10th

• Morning (9 a.m.-12 p.m.), Working Group 4, Precision Landing Guidance (GPS/LAAS), MacIntosh-NBAA Room & Hilton-ATA Room.

Friday, June 11th

Plenary Session—See Agenda Below

Agenda—Plenary Session—Agenda

June 11th, 2010—starting at 9 a.m.

MacIntosh-NBAA & Hilton-ATA Rooms

• Chairman's Introductory Remarks.

• Approval of Summary of the Eighty-First Meeting held February 5, 2010, RTCA Paper No. 068-10/SC159-984.

• Review Working Group (WG) Progress and Identify Issues for Resolution.

• GPS/3rd Civil Frequency (WG-1).

• GPS/WAAS (WG-2).

• GPS/GLONASS (WG-2A).

• GPS/Inertial (WG-2C).

• GPS/Precision Landing Guidance (WG-4).

• GPS/Airport Surface Surveillance (WG-5).

• GPS/Interference (WG-6).

• GPS/Antennas (WG-7).

• Review of EUROCAE Activities.

• GEAS Update Briefing.

• Assignment/Review of Future Work.

• Other Business.

• Date and Place of Next Meeting

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on May 12, 2010.
Francisco Estrada C.,
RTCA Advisory Committee.

[FR Doc. 2010-12088 Filed 5-19-10; 8:45 am]

BILLING CODE 4910-13-P